DEPARTMENT OF COMMERCE

International Trade Administration

[A-570-877]

Notice of Postponement of Preliminary Antidumping Duty Determination: Lawn and Garden Steel Fence Posts From the People's Republic of China

AGENCY: Import Administration, International Trade Administration, Department of Commerce.

EFFECTIVE DATE: September 10, 2002.

FOR FURTHER INFORMATION CONTACT: Salim Bhabhrawala or Christopher Smith, Office 5, Group II, Import Administration, International Trade Administration, U.S. Department of Commerce, 14th Street and Constitution Avenue NW, Washington, DC 20230; telephone (202) 482-1784, or (202) 482-1442, respectively.

SUPPLEMENTARY INFORMATION:

Postponement of Preliminary Determination:

The Department of Commerce (the Department) is postponing the deadline for issuance of the preliminary determination in the antidumping duty investigation of lawn and garden steel fence posts from the People's Republic of China until November 27, 2002.

On May 21, 2002, the Department initiated an antidumping investigation of lawn and garden steel fence posts from the People's Republic of China. See Initiation of Antidumping Duty Investigation: Lawn and Garden Steel Fence Posts from the People's Republic of China, 67 FR 37388 (May 29, 2002). The notice stated that the Department would issue its preliminary determination no later than 140 days after the date of initiation (i.e., October 8, 2002).

On August 26, 2002, the petitioner, Steel City Corporation, made a timely request pursuant to 19 CFR 351.205(e) for a fifty-day postponement. Therefore, in accordance with section 733 (c)(1)(a) of the Tariff Act of 1930, as amended, the Department is postponing the date of the preliminary determination until November 27, 2002, which is 190 days from the date on which the Department initiated this investigation. We will issue our final determination no later than 75 days from the date on which the Department issues its preliminary determination in this proceeding.

This determination is issued and published in accordance with sections 751(a)(1) and 777(i)(1) of the Act.

Dated: September 3, 2002.
Faryar Shirzad,
Assistant Secretary for Import Administration.

[FR Doc. 02-22991 Filed 9-9-02; 8:45 am]

BILLING CODE 3510-DS-S